POSTAL REGULATORY COMMISSION

Sunshine Act Meetings

TIME AND DATE: Wednesday, July 13, 2011, at 11 a.m.

PLACE: Commission hearing room, 901 New York Avenue, NW., Suite 200, Washington, DC 20268-0001.

STATUS: Part of this meeting will be open to the public. The rest of the meeting will be closed to the public. The open part of the meeting will be audiocast. The audiocast can be accessed via the Commission's Web site at http://www.prc.gov.

MATTERS TO BE CONSIDERED: The agenda for the Commission's July 2011 meeting includes the items identified below.

Portions Open to the Public

1. Report on the Joint Periodicals Task Force and the report to the Congress pursuant to section 708 of the Postal Accountability and Enhancement Act (PAEA).

2. Report on legislative review pursuant to section 701 of the PAEA.

3. Report on status of pending dockets.

4. Review of postal-related Congressional activity.

5. Report on international activities.

6. Report on studies to quantify the social value of the postal system.

Portions Closed to the Public

7. Discussion of pending litigation.

8. Discussion of contractual matters involving sensitive business information—lease issues.

CONTACT PERSON FOR MORE INFORMATION: Stephen L. Sharfman, General Counsel, Postal Regulatory Commission, 901 New York Avenue, NW., Suite 200, Washington, DC 20268-0001, at 202-789-6820 (for agenda-related inquiries) and Shoshana M. Grove, Secretary of the Commission, at 202-789-6800 or shoshana.grove@prc.gov (for inquiries related to meeting location, access for handicapped or disabled persons, the audiocast, or similar matters).

Dated: May 20, 2011.
By the Commission.
Shoshana M. Grove,
Secretary.

[FR Doc. 2011-16436 Filed 6-27-11; 4:15 pm]

BILLING CODE 7710-FW-P